NATIONAL AERONAUTICS AND SPACE ADMINISTRATION

[Notice 05-109]

NASA Aeronautics Research Advisory Committee, Airspace Systems Program Subcommittee; Meeting.

AGENCY: National Aeronautics and Space Administration

ACTION: Notice of meeting.

SUMMARY: The National Aeronautics and Space Administration announces a forthcoming meeting of the NASA Aeronautics Research Advisory Committee (ARAC), Airspace Systems Program Subcommittee (ASPS).

DATES: Wednesday, August 3, 2005, 9 a.m. to 5 p.m. and Thursday, August 4, 2005, 8:30 a.m. to 5 p.m.

ADDRESSES: Holiday Inn Washington-Capitol, 550 C Street, SW., Washington, DC; Room: Discovery II.

FOR FURTHER INFORMATION CONTACT: Mrs. Mary-Ellen McGrath, Aeronautics Research Mission Directorate, National Aeronautics and Space Administration, Washington, DC 20546, (202) 358-4729.

SUPPLEMENTARY INFORMATION: The meeting will be open to the public up to the seating capacity of the room. The agenda for the meeting is as follows:

—Opening Remarks

—Review of Joint Planning and Development Office (JPDO) Roadmap and R&D Requirements

—Review of Airspace Systems (AS) Program

—Comparative Analysis of the AS Program and the JPDO Requirements

—Discussion of the Airspace Systems Program

—Closing Comments

Attendees will be requested to sign a register. It is imperative that the meeting be held on these dates to accommodate the scheduling priorities of the key participants.

Dated: July 7, 2005.
P. Diane Rausch,
Advisory Committee Management Officer, National Aeronautics and Space Administration.

[FR Doc. 05-13802 Filed 7-12-05; 8:45 am]

BILLING CODE 7510-13-M